NUCLEAR REGULATORY COMMISSION

[NRC-2021-0042]

Emergency Response Planning and Preparedness for Nuclear Power Reactors

AGENCY: Nuclear Regulatory Commission.

ACTION: Draft regulatory guide; request for comment.

SUMMARY: The U.S. Nuclear Regulatory Commission (NRC) is issuing for public comment a draft regulatory guide (DG), DG-1357, “Emergency Response Planning and Preparedness for Nuclear Power Reactors.” This DG is proposed Revision 6 of Regulatory Guide (RG) 1.101, “Emergency Response Planning and Preparedness for Nuclear Power Reactors.” This proposed revision endorses Revision 0 of the Nuclear Energy Institute (NEI) white paper, “Implementing a 24-Month Frequency for Emergency Preparedness Program Reviews,” issued November 2019. In addition, this proposed revision includes guidance found in previous revisions of RG 1.101, updated NRC guidance documents, and other documents previously endorsed by the NRC to consolidate the list of these guidance documents into a single revision of the RG.

DATES: Submit comments by April 16, 2021. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods; however, the NRC encourages electronic comment submission through the Federal Rulemaking website:

• Federal Rulemaking Website: Go to https://www.regulations.gov and search for Docket ID NRC-2021-0042. Address questions about Docket IDs in Regulations.gov to Stacy Schumann; telephone: 301-415-0624; email: Stacy.Schumann@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Charles Murray, Office of Nuclear Security and Incident Response, telephone: 301-287-9246, email: Charles.Murray@nrc.gov and Mekonen Bayssie, Office of Nuclear Regulatory Research, telephone: 301-415-1669, email: Mekonen.Bayssie@nrc.gov. Both are staff of the U.S. Nuclear Regulatory Commission, Washington, DC 20555-0001.

SUPPLEMENTARY INFORMATION:

I. Obtaining Information and Submitting Comments

A. Obtaining Information

Please refer to Docket ID NRC-2021-0042 when contacting the NRC about the availability of information for this action. You may obtain publicly available information related to this action by any of the following methods:

• Federal Rulemaking Website: Go to https://www.regulations.gov and search for Docket ID NRC-2021-0042.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

B. Submitting Comments

Please include Docket ID NRC-2021-0042 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Additional Information

The NRC is issuing for public comment a DG in the NRC's “Regulatory Guide” series. This series was developed to describe and make available to the public information regarding methods that are acceptable to the NRC staff for implementing specific parts of the NRC's regulations, techniques that the staff uses in evaluating specific issues or postulated events, and data that the staff needs in its review of applications for permits and licenses.

The DG, entitled “Emergency Response Planning and Preparedness for Nuclear Power Reactors,” is temporarily identified by its task number, DG-1357 (ADAMS Accession No. ML21007A330). The staff is also issuing for public comment a draft regulatory analysis (ADAMS Accession No. ML21004A168). The staff develops a regulatory analysis to assess the value of issuing or revising a regulatory guide as well as alternative courses of action

The staff would issue Revision 6 of RG 1.101 to endorse and update guidance that is available to licensees and applicants on methods acceptable to the NRC staff for complying with the NRC's regulations for emergency response plans and preparedness at nuclear power reactors. This DG is for light water reactors, including those of an advanced design (e.g., AP1000); small modular reactors and other new technologies will have design-specific RGs to support development of their emergency plans. This proposed revision endorses Revision 0 of the NEI white paper, “Implementing a 24-Month Frequency for Emergency Preparedness Program Reviews,” issued November 2019. This proposed revision also includes guidance found in previous revisions of RG 1.101, updated NRC guidance documents, and other documents previously endorsed by the NRC to consolidate the list of these guidance documents into a single revision of the RG.

III. Backfitting, Forward Fitting, and Issue Finality

DG-1357, if finalized, would revise RG 1.101, Revision 6, which describes methods acceptable to the NRC staff for complying with the NRC's regulations to meet the regulatory requirements for emergency response planning and preparedness. Issuance of DG-1357, if finalized, would not constitute backfitting as defined in section 50.109 of the Code of Federal Regulation (10 CFR), “Backfitting,” and as described in NRC Management Directive (MD) 8.4, “Management of Backfitting, Forward Fitting, Issue Finality, and Information Requests”; constitute forward fitting as that term is defined and described in MD 8.4; or affect the issue finality of any approval issued under 10 CFR part 52, “Licenses, certifications, and approvals for nuclear power plants.” As explained in DG-1357, applicants and licensees would not be required to comply with the positions set forth in DG-1357.

Dated: March 12, 2021.
For the Nuclear Regulatory Commission.
Meraj Rahimi,
Chief, Regulatory Guidance and Generic Issues Branch, Division of Engineering, Office of Nuclear Regulatory Research.

[FR Doc. 2021-05501 Filed 3-16-21; 8:45 am]

BILLING CODE 7590-01-P